DEPARTMENT OF TRANSPORTATION

Federal Aviation Administration

14 CFR Part 39

[Docket No. FAA-2021-1180; Project Identifier MCAI-2021-00794-R]

RIN 2120-AA64

Airworthiness Directives; Airbus Helicopters Deutschland GmbH Helicopters

AGENCY: Federal Aviation Administration (FAA), DOT.

ACTION: Notice of proposed rulemaking (NPRM).

SUMMARY: The FAA proposes to adopt a new airworthiness directive (AD) for all Airbus Helicopters Deutschland GmbH Model MBB-BK 117 D-3 helicopters. This proposed AD was prompted by reports of a main rotor (M/R) blade lead-lag damper in a tilted position. This proposed AD would require inspecting the Flex Control Unit (FCU), and corrective actions if necessary, as well as rework and re-identification of the bearing pin, as specified in a European Union Aviation Safety Agency (EASA) AD, which is proposed for incorporation by reference (IBR). The FAA is proposing this AD to address the unsafe condition on these products.

DATES: The FAA must receive comments on this proposed AD by February 28, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material that is proposed for IBR in this AD, contact the EASA, Konrad-Adenauer-Ufer 3, 50668 Cologne, Germany; phone: +49 221 8999 000; email: ADs@easa.europa.eu; internet: www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. This material is also available at https://www.regulations.gov by searching for and locating Docket No. FAA-2021-1180.

Examining the AD Docket

You may examine the AD docket at https://www.regulations.gov by searching for and locating Docket No. FAA-2021-1180; or in person at Docket Operations between 9 a.m. and 5 p.m., Monday through Friday, except Federal holidays. The AD docket contains this NPRM, the EASA AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-1180; Project Identifier MCAI-2021-00794-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives that is not specifically designated as CBI will be placed in the public docket for this rulemaking.

Background

EASA, which is the Technical Agent for the Member States of the European Union, has issued EASA AD 2021-0160, dated July 5, 2021 (EASA AD 2021-0160), to correct an unsafe condition for Airbus Helicopters Deutschland GmbH (AHD), formerly Eurocopter Deutschland GmbH, Model MBB-BK117 D-3 helicopters, all serial numbers, including Model MBB-BK117 D-2 helicopters that have been converted into Model MBB-BK117 D-3 helicopters through Airbus Helicopters Service Bulletin MBB-BK117 D-2-00-003.

This proposed AD was prompted by reports of an M/R blade lead-lag damper in a tilted position. EASA advises that subsequent investigation results determined that the tolerances stack-up may lead to an insufficient clamping on the bearing pin. The FAA is proposing this AD to address this unsafe condition, which if not detected and corrected, could result in an unbalance of the M/R system, excessive vibration, and reduced control of the helicopter. See EASA AD 2021-0160 for additional background information.

Related Service Information Under 1 CFR Part 51

EASA AD 2021-0160 requires a one-time inspection of the affected FCU and depending on findings, accomplishment of applicable corrective actions. EASA AD 2021-0160 also requires after the initial FCU inspection, re-working and re-identifying each affected part by marking the part with a letter “M.” EASA AD 2021-0160 prohibits installing an affected FCU or affected part on any helicopter.

This material is reasonably available because the interested parties have access to it through their normal course of business or by the means identified in the ADDRESSES section.

Other Related Service Information

The FAA reviewed Airbus Helicopters Alert Service Bulletin ASB MBB-BK117 D-3-62A-002, dated June 29, 2021, which specifies procedures for a one-time inspection of the FCU and re-work of the bearing pin installed on the support assembly.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type design.

Proposed AD Requirements in This NPRM

This proposed AD would require accomplishing the actions specified in EASA AD 2021-0160, described previously, as incorporated by reference, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2021-0160 by reference in the FAA final rule. This proposed AD would, therefore, require compliance with EASA AD 2021-0160 in its entirety through that incorporation, except for any differences identified as exceptions in the regulatory text of this proposed AD. Using common terms that are the same as the heading of a particular section in EASA AD 2021-0160 does not mean that operators need comply only with that section. For example, where the AD requirement refers to “all required actions and compliance times,” compliance with this AD requirement is not limited to the section titled “Required Action(s) and Compliance Time(s)” in EASA AD 2021-0160. Service information referenced in EASA AD 2021-0160 for compliance will be available at https://www.regulations.gov by searching for and locating Docket No. FAA-2021-1180 after the FAA final rule is published.

Costs of Compliance

The FAA estimates that this AD, if adopted as proposed, would affect 41 helicopters of U.S. Registry. Labor rates are estimated at $85 per work-hour. Based on these numbers, the FAA estimates the following costs to comply with this proposed AD.

Inspecting each FCU, including inspecting each rotor hub-shaft, hexagonal screw, nut, damper assembly, bearing pin, support assembly, spherical bearing, and integrated bearing sleeve, would take about 3 work-hours for an estimated cost of $255 per FCU inspection and $10,455 for the U.S. fleet per FCU inspection.

Reworking and re-identifying the bearing pin would take about 0.5 work-hour for an estimated cost of $43 per helicopter and $1,763 for the U.S. fleet per bearing pin.

The FAA has received no definitive data on which to base the cost estimates for the on-condition repairs specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters Deutschland GmbH: Docket No. FAA-2021-1180; Project Identifier MCAI-2021-00794-R.

(a) Comments Due Date

The FAA must receive comments on this airworthiness directive (AD) by February 28, 2022.

(b) Affected ADs

None.

(c) Applicability

This AD applies to Airbus Helicopters Deutschland GmbH Model MBB-BK 117 D-3 helicopters, certificated in any category.

Note 1 to paragraph (c) of this AD: Model MBB-BK117 D-2 helicopters that have been converted into Model MBB-BK117 D-3 helicopters are Model MBB-BK 117 D-3 helicopters and this AD is also applicable to those helicopters.

(d) Subject

Joint Aircraft Service Component (JASC) Code: 6200, Main Rotor System.

(e) Unsafe Condition

This AD was prompted by reports of a main rotor (M/R) blade lead-lag damper in a tilted position. The FAA is issuing this AD to prevent an unbalance of the M/R system. The unsafe condition, if not addressed, could result in excessive vibration and reduced control of the helicopter.

(f) Compliance

Comply with this AD within the compliance times specified, unless already done.

(g) Requirements

Except as specified in paragraph (h) of this AD: Comply with all required actions and compliance times specified in, and in accordance with, European Union Aviation Safety Agency (EASA) AD 2021-0160, dated July 5, 2021 (EASA AD 2021-0160).

(h) Exceptions to EASA AD 2021-0160

(1) Where EASA AD 2021-0160 requires compliance in terms of flight hours, this AD requires using hours time-in-service.

(2) Where EASA AD 2021-0160 refers to its effective date, this AD requires using the effective date of this AD.

(3) Where the service information referenced in EASA AD 2021-0160 specifies to contact Airbus Helicopters or replace the Flex Control Unit (FCU) if you find cracks or damage at the protruding conical end of the integrated bearing sleeve, this AD requires removing the FCU from service and replacing with an airworthy part, or repairing the FCU in accordance with a method approved by the Manager, General Aviation & Rotorcraft Section, International Validation Branch, FAA; or EASA; or Airbus Helicopters' EASA Design Organization Approval (DOA). If approved by the DOA, the approval must include the DOA-authorized signature.

(4) Where a work card in the service information referenced in EASA AD 2021-0160 specifies performing the corrective action and contacting Airbus Helicopters when discrepancies are found, this AD requires performing the corrective actions as specified in the work card but does not require contacting Airbus Helicopters.

(5) Where a work card in the service information referenced in EASA AD 2021-0160 specifies to do a dye penetrant inspection for the inspection of Zone B of the rotor hub-shaft “if you are not sure there are cracks,” this AD requires performing a dye penetrant inspection.

(6) Where paragraph (5) of EASA AD 2021-0160 specifies “it is allowed to install a hexagonal screw P/N D622M0500207 on any helicopter, provided that installation is accomplished in accordance with the instructions of section 3.D of the ASB, or in accordance with the instructions of an AMM revision which includes the technical content of section 3.D of the ASB,” for this AD replace the text “in accordance with the instructions of section 3.D of the ASB, or in accordance with the instructions of an AMM revision which includes the technical content of section 3.D of the ASB” with “in accordance with the instructions of section 3.D of the ASB, or in accordance with the instructions of an AMM revision which includes the identical content of section 3.D of the ASB.

(7) This AD does not mandate compliance with the “Remarks” section of EASA AD 2021-0160.

(i) No Reporting Requirement

Although the service information referenced in EASA AD 2021-0160 specifies to submit certain information to the manufacturer, this AD does not include that requirement.

(j) Special Flight Permit

Special flight permits may be issued in accordance with 14 CFR 21.197 and 21.199 to operate the helicopter to a location where the helicopter can be modified, provided no passengers are onboard.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(2) of this AD. Information may be emailed to: 9-AVS-AIR-730-AMOC@faa.gov.

(2) Before using any approved AMOC, notify your appropriate principal inspector, or lacking a principal inspector, the manager of the local flight standards district office/certificate holding district office.

(l) Related Information

(1) For EASA AD 2021-0160, contact the EASA, Konrad-Adenauer-Ufer 3, 50668 Cologne, Germany; telephone +49 221 8999 000; email ADs@easa.europa.eu; internet www.easa.europa.eu. You may view this material at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-1180.

(2) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

Issued on January 6, 2022.
Lance T. Gant,
Director, Compliance & Airworthiness Division, Aircraft Certification Service.

[FR Doc. 2022-00358 Filed 1-13-22; 8:45 am]

BILLING CODE 4910-13-P